DEPARTMENT OF COMMERCE

National Oceanic and Atmospheric Administration

50 CFR Part 679

[Docket No. 070213032-7032-01]

RIN 0648-XL84

Fisheries of the Exclusive Economic Zone Off Alaska; Reallocation of Halibut in the Gulf of Alaska

AGENCY: National Marine Fisheries Service (NMFS), National Oceanic and Atmospheric Administration (NOAA), Commerce.

ACTION: Temporary rule; reallocation.

SUMMARY: NMFS is reallocating the projected unused amount of halibut prohibited species catch (PSC) from rockfish cooperatives in the Central Gulf of Alaska (GOA) Rockfish Pilot Program to vessels using trawl gear in the GOA. This action is necessary to provide the opportunity to vessels using trawl gear to harvest available GOA groundfish total allowable catch (TAC) under existing PSC limits.

DATES: Effective November 14, 2008, until 2400 hours, A.l.t., December 31, 2008.

FOR FURTHER INFORMATION CONTACT: Steve Whitney, 907-586-7269.

SUPPLEMENTARY INFORMATION: NMFS manages the groundfish fishery in the GOA according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2008 allocation of halibut PSC to vessels using trawl gear in the GOA is 2,000 metric tons (mt) as established by the 2008 and 2009 final harvest specifications for groundfish in the GOA (73 FR 10562, February 27, 2008). Under § 679.81(c)(1), 171 mt of halibut PSC is allocated to catcher processor and catcher vessel rockfish cooperatives in the Central GOA. The website at http://www.alaskafisheries.noaa.gov/sustainablefisheries/goarat/08rppallocations.xls lists this amount. The remaining 1,829 mt is allocated to vessels using trawl gear not in a rockfish cooperative.

As of November 13, 2008, the Administrator, Alaska Region, NMFS (Regional Administrator), has determined that rockfish cooperatives in the Central GOA have not used 135 mt of the allocation under § 679.21(d)(5)(iii)(B). Therefore, NMFS is reallocating 135 mt of halibut PSC from rockfish cooperatives in the Central GOA to the last seasonal apportionment for vessels using trawl gear in the GOA.

Therefore, the harvest specifications for halibut PSC are revised as follows: 36 mt to rockfish cooperatives in the Central GOA and 1,829 mt to vessels using trawl gear.

Classification

This action responds to the best available information recently obtained from the fishery. The Assistant Administrator for Fisheries, NOAA, (AA) finds good cause to waive the requirement to provide prior notice and opportunity for public comment pursuant to the authority set forth at 5 U.S.C. 553(b)(B) as such a requirement is impracticable and contrary to the public interest. This requirement is impracticable and contrary to the public interest as it would prevent NMFS from responding to the most recent fisheries data in a timely fashion and would delay the reallocation of projected unused amounts of halibut PSC in the GOA. NMFS was unable to publish a notice providing time for public comment because the most recent, relevant data only became available as of November 13, 2008.

The AA also finds good cause to waive the 30-day delay in the effective date of this action under 5 U.S.C. 553(d)(3). This finding is based upon the reasons provided above for waiver of prior notice and opportunity for public comment.

This action is required by § 679.21 and is exempt from review under Executive Order 12866.

Authority: 16 U.S.C. 1801 et seq.

Dated: November 14, 2008.
Emily H. Menashes,
Acting Director, Office of Sustainable Fisheries, National Marine Fisheries Service.

[FR Doc. E8-27487 Filed 11-14-08; 4:15 pm]

BILLING CODE 3510-22-S